DEPARTMENT OF HOMELAND SECURITY

Coast Guard

[USCG-2003-16252]

Senior Executive Service Performance Review Board Membership

AGENCY: Coast Guard, DHS.

ACTION: Notice of appointments.

SUMMARY: The Coast Guard is providing notice of the appointment of nine individuals to serve on its Performance Review Board.

FOR FUTHER INFORMATION CONTACT: David Hyde, Chief, Office of Civilian Personnel, (202) 267-0921.

SUPPLEMENTARY INFORMATION: Under 5 U.S.C. 4314(c)(4), the Coast Guard is required to publish the names of individuals appointed to serve on the Coast Guard Performance Review Board (CGPRB). The following nine persons have been selected to serve on the CGPRB:

Rear Admiral K. T. Venuto, Assistant Commandant for Human Resources, United States Coast Guard; Rear Admiral R. J. Papp, Director of Reserve and Training, United States Coast Guard; Rear Admiral E. M. Brown, Assistant Commandant for Systems, United States Coast Guard; Rear Admiral J. C. Olson, Director of Operations Capability, United States Coast Guard; Rear Admiral J. J. Hathaway, Director of Operations Policy, United States Coast Guard; Mr. John Matticks, Senior Planning Advisor, Federal Emergency Management Agency; Dr. Marjorie Budd, Assistant Commissioner for Training and Development, U.S. Customs and Border Protection; Mr. Thomas Grupski, Deputy Assistant Director, Protective Operations Office, U.S. Secret Service; Mr. James L. Dunlap, Deputy Assistant Director, Human Resources and Training, U.S. Secret Service.

Dated: October 1, 2003.
David Hyde,
Chief, Office of Civilian Personnel.

[FR Doc. 03-25417 Filed 10-7-03; 8:45 am]

BILLING CODE 4910-15-P